DEPARTMENT OF HEALTH AND HUMAN SERVICES

Centers for Disease Control and Prevention (CDC)

Announcement of Requirements and Registration for Million Hearts® Hypertension Control Challenge

AGENCY: Centers for Disease Control and Prevention (CDC), Department of Health and Human Services (HHS).

ACTION: Notice.

Award Approving Official: Thomas R. Frieden, MD, MPH, Director, Centers for Disease Control and Prevention, and Administrator, Agency for Toxic Substances and Disease Registry.

SUMMARY: The Centers for Disease Control and Prevention (CDC) located within the Department of Health and Human Services (HHS) announces the launch of the Million Hearts® Hypertension Control Challenge on August 9, 2013. The challenge will be open until September 9, 2013.

Million Hearts® is a national initiative to prevent 1 million heart attacks and strokes by 2017. Achieving this goal means that 10 million more Americans must have their blood pressure under control. Million Hearts® is working to control high blood pressure through clinical approaches, such as using health information technology to its fullest potential and integrating team-based approaches to care, as well as community approaches, such as strengthening tobacco control, and lowering sodium consumption.

To support improved blood pressure control, HHS/CDC is announcing the Million Hearts® Hypertension Control Challenge. This challenge recognizes organizations that invest in hypertension control, improve understanding of successful implementation strategies at the health system level, and motivate providers and health systems to strengthen their hypertension control efforts.

The challenge will identify clinicians, clinical practices, and health systems that have achieved exceptional rates of hypertension control and recognize them as Million Hearts® Hypertension Control Champions. To support improved quality of care delivered to patients with hypertension, Million Hearts® will document the systems, processes, and staffing that contribute to the exceptional blood pressure control rates achieved by Champions.

Champions will receive a cash prize and local and national recognition.

DATES: The contest begins on August 9, 2013 and ends on September 9, 2013.

FOR FURTHER INFORMATION CONTACT: Susan Ladd, Division for Heart Disease and Stroke Prevention, National Center for Chronic Disease Prevention and Health Promotion, Centers for Disease Control and Prevention, 4770 Buford Hwy NE., Mailstop F-72, Atlanta, GA 30341, Telephone: 770-488-2424, Fax: 770-488-8151, Attention: Hypertension Control Challenge, Email: millionhearts@cdc.gov.

SUPPLEMENTARY INFORMATION: The challenge is authorized by Public Law 111-358, the America Creating Opportunities to Meaningfully Promote Excellence in Technology, Education and Science Reauthorization Act of 2010 (COMPETES Act).

This information collection request is approved by the Office of Management and Budget (OMB). [OMB control no. 0920-0976, expires 7/31/2016.]

Subject of Challenge Competition

Entrants of the Million Hearts Hypertension Control Challenge will be asked to submit two point-in-time measures of the hypertension control rate for the practice's or health system's hypertensive population approximately twelve months apart. Entrants will also be asked to describe the sustainable systems used by the practice or health system that support continued improvements in blood pressure control and some population characteristics.

Eligibility Rules for Participating in the Competition

To be eligible to win a prize under this challenge, an individual or entity—

(1) Shall have completed the nomination form to participate in the competition under the rules promulgated by HHS/CDC;

(2) Shall have complied with all the requirements in this section;

(3) Shall be a U.S. licensed clinician or medical practice providing health care services in family practice, internal medicine, osteopathy, or obstetrics/gynecology, primarily for adults or shall be a U.S. licensed health system that provides coverage to a patient population representative of the geographic area.

(4) Must provide medical care to control hypertension to adult patients and have a data management system (electronic or paper) that allows HHS/CDC or their contractor to check data submitted.

(5) In the case of a private entity, shall be licensed in and maintain a primary place of business in the United States, and in the case of an individual, whether participating singly or in a group, shall be a citizen or permanent resident of the United States;

(6) May not be a Federal entity or Federal employee acting within the scope of their employment;

(7) Shall not be an HHS employee working on their applications or submissions during assigned duty hours;

(8) Shall not be an employee or contractor at HHS/CDC.

(9) Federal grantees, may not use Federal funds to develop COMPETES Act challenge applications unless consistent with the purpose of their grant award.

(10) Federal contractors may not use Federal funds from a contract to develop COMPETES Act challenge applications or to fund efforts in support of a COMPETES Act challenge submission.

(11) Must agree to participate in a process to verify hypertension control data by submitting de-identified electronic medical records, allowing remote review of de-identified records, or allowing a site visit or confirmation through another source.

(12) Must not have been convicted or be under investigation for criminal offenses or health care fraud. Examples of fraud include felony health care fraud, patient abuse, or neglect; felony convictions for other health care-related fraud, theft, or other financial misconduct; and felony convictions relating to unlawful manufacture, distribution, prescription, or dispensing of controlled substances as verified through the Office of the Inspector General List of Excluded Individuals and Entities.

(13) Must agree to accept the prize if selected and agree to participate in an interview to develop a success story that describes the systems and processes that support hypertension control among patients.

An individual or entity shall not be deemed ineligible because the individual or entity used Federal facilities or consulted with Federal employees during a competition if the facilities and employees are made available to all individuals and entities participating in the competition on an equal basis.

By participating in this challenge, an individual or organization agrees to assume any and all risks related to participating in the challenge. Individuals or organizations also agree to waive claims against the Federal Government and its related entities, except in the case of willful misconduct, when participating in the challenge, including claims for injury; death; damage; or loss of property, money, or profits, and including those risks caused by negligence or other causes.

By participating in this challenge, individuals or organizations agree to protect the Federal Government against third party claims for damages arising from or related to challenge activities.

Individuals or organizations are not required to hold liability insurance related to participation in this challenge.

Federal organizations will be offered a simultaneous opportunity to participate in a separate but similar challenge, and will be eligible for recognition only. No cash prize will be awarded to Federal organizations.

Registration Process for Participants

To participate, contestants will navigate to www.MHhypertensionchallenge.com. On this site, applicants will find the rules and guidelines for participating as well as the entry form. On the homepage, applicants in the private sector will click the button labeled “Private Organization Nomination” to voluntarily enter the challenge. Information on the nomination form will include:

• Name and complete address of nominee and business address of the nominator. If more than one site is represented in the submission, the administrative office or lead office should be provided.

• Contact information to include business telephone number and email address.

• Data to show evidence of clinical success in achieving hypertension control, including: (a) Clinical hypertension control rate within three months of submission and clinical hypertension control rate 9-12 months previous for the hypertensive patient population, (b) a description of the sustainable systems adopted to achieve hypertension control and (c) a description of the clinic population served.

HHS/CDC defines “hypertension control” as a blood pressure reading <140 mmHg systolic and <90 mmHg diastolic among hypertensive patients. Million Hearts® supports use of the National Quality Forum #0018 (other nationally recognized measures for defining hypertension control may be used and shall be specified in the nomination form).

The hypertension control rate should be inclusive of the provider or health system's entire hypertensive patient population, not limited to a sample. Examples of ineligible data submissions include hypertension control rates that are limited to treatment cohorts from research studies or pilot studies, patients limited to a specific age range (such as 18-35), or patients enrolled in quality improvement projects.

The estimated burden for completing the nomination form is 30 minutes.

Amount of the Prize

Up to a total of 14 of the highest scoring clinical practices or health systems (judged separately) will be recognized as Million Hearts® Hypertension Control Champions and will receive a cash award of $5,000. A maximum of $70,000 will be awarded in this challenge.

Payment of the Prize

Prizes awarded under this challenge will be paid by electronic funds transfer and may be subject to Federal income taxes. HHS will comply with the Internal Revenue Service withholding and reporting requirements, where applicable.

Basis Upon Which Winner Will Be Selected

Nomination will be scored based on hypertension control rate (90% of score), treatment of a population in which achieving hypertension control is more challenging, such as high risk or low income individuals (5% of score), and sustainable systems in the practice that support hypertension control (5% of score). A CDC-sponsored panel of three to five experts consisting of both HHS/CDC staff and external Million Hearts® partners will review the nominations with the highest scores to select finalists. Finalist selection may consider geographic location and population treated.

Finalists will be asked to participate in a 15-day process to verify their data so that HHS/CDC can confirm information submitted on the nomination form. Data confirmation may include one or more of the following activities: A remote review of summary data or de-identified electronic medical record list, a random hard copy or electronic record review, and/or verification through other reporting systems, such as the National Committee for Quality Assurance or the Centers for Medicare & Medicaid Services. A background check will also be conducted on selected finalists. At a minimum, the background check will verify the finalist's license and include a search of the Office of the Inspector General List of Excluded Individuals and Entities.

If a selected finalist does not respond to requests for data and information by the requested date or if a selected finalist receives negative findings through the background check or data confirmation, HHS/CDC reserves the option to exclude that individual or organization from the challenge award process and to select the next highest scoring nominee.

Each selected Champion will participate in a post-challenge telephone interview. The interview will include questions about the strategies employed by the individual or organization to achieve high rates of hypertension control, including barriers and facilitators for those strategies. The interview will focus on systems and processes and should not require preparation time by the Champion. The estimated time for the interview is two hours, which includes time to review the interview protocol with the interviewer, respond to the interview questions, and review a summary data about the Champion's practices. The summary will be written as a success story and will be posted on the Million Hearts® Web site.

Additional Information

Information received from nominees will be stored in a password protected file on a secure server. The challenge Web site may post the number of nominations received but will not include information about individual nominees. The database of information submitted by nominees will not be posted on the Web site. Information collected from nominees will include general details, such as the business name, address, and contact information of the nominee. This type of information is generally publically available. The nomination will collect and store only aggregate clinical data through the nomination process; no individual patient data will be collected or stored.

Information for selected Champions, such as the provider, practice, or health system's name, location, and hypertension control rate will be shared through press releases, the challenge Web site, and Million Hearts® and HHS/CDC resources.

Summary data on the types of systems and processes that nominees use to control hypertension may be shared in documents or other communication products that describe generally used practices for successful hypertension control. No individual or organization names will be included in the summary document except for the selected Champions. HHS/CDC will use the summary data only as described and will secure the data to the full extent allowable by law.

Compliance With Rules and Contacting Contest Winners

Finalists and Champions must comply with all terms and conditions of these official rules, and winning is contingent upon fulfilling all requirements herein. The initial finalists will be notified by email, telephone, or mail after the date of the judging.

Privacy

If contestants choose to provide HHS/CDC with personal information by filling out the nomination form through the challenge Web site at www.MHhypertensionchallenge.com, that information is used to respond to contestants in matters regarding their selection as a finalist. Information is not collected for commercial marketing. Winners are permitted to cite that they won this challenge.

The names, cities, and states of selected champions will be made available in promotional materials and at recognition events.

General Conditions

The HHS/CDC reserves the right to cancel, suspend, and/or modify the challenge, or any part of it, for any reason, at HHS/CDC's sole discretion.

Authority: 15 U.S.C. 3719.

Dated: August 5, 2013.
J. Ronald Campbell,
Director, Division of Executive Secretariat, Centers for Disease Control and Prevention.

[FR Doc. 2013-19272 Filed 8-8-13; 8:45 am]

BILLING CODE 4163-18-P